DEPARTMENT OF JUSTICE

Notice of Lodging of Amendments to Consent Decree

Under 28 CFR 50.7, notice is hereby given that on March 29, 2001, amendments to the Consent Decree filed in United States v. Marine Shale Processors, Inc., Civ. No. CV90-1240, were lodged with the United States District Court for the Western District of Louisiana. The original Consent Decree was filed on February 19, 1998, and was modified by an Order of the Court dated February 23, 1999.

In this action against Marine Shale Processors, Inc., (“MSP”) the United States sought to recover civil penalties and enjoin violations of the Resource Conservation and Recovery Act (“RCRA”), 42 U.S.C. 6901 et seq., the Clean Water Act, 33 U.S.C. 1251 et seq., and the Clean Air Act, 42 U.S.C. 7413. The United States also sought relief under the Comprehensive Environmental Response, Compensation, and Liability Act (“CERCLA”), 42 U.S.C. 9604, 9606, and 9607. MSP operated a facility in Morgan City, Louisiana that treated hazardous waste by combustion.

These amendments extend the deadline by which a new company, GTX, Inc. must purchase the assets and liabilities of MSP to September 11, 2001. The amendments also extend the “Continuing Election” provision of the Consent Decree. Section V of the original Consent Decree provided that GTX may make a “Continuing Election” that an Order vacating the Consent Decree not issue “within ten (10) days after the eighteen months from entry of the Consent Decree” if GTX has not obtained the “Necessary Permits” by that date. The amendments to Section V provide that the “Continuing Election” deadline will run prior to sixty days after the “Final Effective Date,” as defined in the Consent Decree in Section I.

The Department of Justice will receive for a period of thirty (30) days from the date of this publication comments relating to the Consent Decree. Comments should be addressed to the Assistant Attorney General of the Environment and Natural Resources Division, Department of Justice, Washington, DC 20530, and should refer to United States v. Marine Shale Processors, Inc., D.J. Ref. 90-11-2-204C.

The consent decree amendments may be examined at the Office of the United States Attorney, Hale Boggs Federal Building, 501 Magazine Street, New Orleans, LA 70130, at U.S. EPA Region VI, 1445 Ross Avenue Dallas, TX 75202-2733, and at the Consent Decree Library, PO Box 7611, U.S. Department of Justice, Washington, DC 20044-7611. A copy of the consent decree amendments may be obtained by mail from the Consent Decree Library, PO Box 7611, U.S. Department of Justice, Washington, DC 20044-7611. In requesting a copy, please enclose a check in the amount of $1.00 (25 cents per page reproduction cost) payable to the Consent Decree Library.

Thomas A. Mariani, Jr.,
Assistant Chief, Environmental Enforcement Section, Environment and Natural Resources Division.

[FR Doc. 01-9767 Filed 4-19-01; 8:45 am]

BILLING CODE 4410-15-M